NUCLEAR REGULATORY COMMISSION

[NRC-2022-0098]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from March 4, 2022, to March 31, 2022. The last monthly notice was published on March 22, 2022.

DATES: Comments must be filed May 19, 2022. A request for a hearing or petitions for leave to intervene must be filed by June 21, 2022.

ADDRESSES: You may submit comments by any of the following methods; however, the NRC encourages electronic comment submission through the Federal rulemaking website:

• Federal rulemaking website: Go to https://www.regulations.gov and search for Docket ID NRC-2022-0098. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Rhonda Butler, Office of Nuclear Reactor Regulation, U.S. Nuclear Regulatory Commission, Washington, DC 20555-0001, telephone: 301-415-8025, email: Rhonda.Butler@nrc.gov.

SUPPLEMENTARY INFORMATION:

I. Obtaining Information and Submitting Comments

A. Obtaining Information

Please refer to Docket ID NRC-2022-0098, facility name, unit number(s), docket number(s), application date, and subject when contacting the NRC about the availability of information for this action. You may obtain publicly available information related to this action by any of the following methods:

• Federal Rulemaking Website: Go to https://www.regulations.gov and search for Docket ID NRC-2022-0098.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal rulemaking website (https://www.regulations.gov). Please include Docket ID NRC-2022-0098, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with section 50.91 of title 10 of the Code of Federal Regulations (10 CFR), are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed below, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Arizona Public Service Company, et al; Palo Verde Nuclear Generating Station, Units 1, 2, and 3; Maricopa County, AZ
Docket No(s) | 50-528, 50-529, 50-530.
Application date | February 22, 2022.
ADAMS Accession No | ML22053A233.
Location in Application of NSHC | Pages 2-4 of the Enclosure.
Brief Description of Amendment(s) | The proposed amendments would revise technical specifications (TSs) to adopt Technical Specifications Task Force (TSTF) Traveler TSTF-567, “Add Containment Sump TS to Address GSI [Generic Safety Issue]-191 Issues,” for Palo Verde Nuclear Generating Station, Units 1, 2, and 3. The proposed amendments would add a new TS 3.6.7, “Containment Sump,” that includes an Action to address the condition of the containment sump made inoperable due to containment accident generated and transported debris exceeding the analyzed limits. The Action provides time to correct or evaluate the condition in lieu of an immediate plant shutdown. The NRC issued a final safety evaluation approving TSTF-567, on July 3, 2018 (ADAMS Package Accession No. ML18109A077).
Proposed Determination | NSHC.
Name of Attorney for Licensee, Mailing Address | Jennifer L. Spina, Senior Counsel, Pinnacle West Capital Corporation, 500 N. 5th Street, MS 8695, Phoenix, AZ 85004.
NRC Project Manager, Telephone Number | Siva Lingam, 301-415-1564.
Duke Energy Carolinas, LLC; Catawba Nuclear Station, Units 1 and 2; York County, SC; Duke Energy Carolinas, LLC; McGuire Nuclear Station, Units 1 and 2; Mecklenburg County, NC; Duke Energy Progress, LLC; Shearon Harris Nuclear Power Plant, Unit 1; Wake and Chatham Counties, NC
Docket No(s) | 50-369, 50-370, 50-400, 50-413, 50-414.
Application date | February 24, 2022.
ADAMS Accession No | ML22056A434.
Location in Application of NSHC | Pages 2-4 of Enclosure.
Brief Description of Amendment(s) | The proposed amendment would adopt Technical Specifications Task Force (TSTF) Traveler TSTF-569, Revision 2, “Revise Response Time Testing Definition.” The proposed amendment would revise the technical specification definitions for Engineered Safety Feature Response Time and Reactor Trip System Response Time.
Proposed Determination | NSHC.
Name of Attorney for Licensee, Mailing Address | Tracey Mitchell LeRoy, Deputy General Counsel, Duke Energy Corporation, 550 South Tryon Street, Mail Code DEC45A, Charlotte, NC 28202.
NRC Project Manager, Telephone Number | Zackary Stone, 301-415-0615.
Energy Northwest; Columbia Generating Station; Benton County, WA
Docket No(s) | 50-397.
Application date | February 3, 2022.
ADAMS Accession No | ML22034A992.
Location in Application of NSHC | Pages 12-14 of Attachment 1.
Brief Description of Amendment(s) | The proposed amendment would modify the Columbia Generating Station (Columbia) Technical Specification (TS) requirements related to Completion Times for Required Actions to provide the option to calculate a longer risk-informed completion time. A new program, the “Risk-Informed Completion Time Program” would be added to TS Section 5.0, “Administrative Controls.” The proposed amendment is consistent with Technical Specifications Task Force (TSTF) Traveler TSTF-505, Revision 2, “Provide Risk-Informed Extended Completion Times—RITSTF [Risk-Informed TSTF] Initiative 4b” (ADAMS Accession No. ML18183A493). However, only those Required Actions described in Attachment 4 and Enclosure 1, as reflected in the proposed TS mark-ups provided in Attachments 2 and 3, are proposed to be changed. This is because some of the modified Required Actions in TSTF-505 are not applicable to Columbia, and there are some plant-specific Required Actions not included in TSTF-505 that are included in this proposed amendment. A model Safety Evaluation was provided by the NRC to the TSTF on November 21, 2018 (ADAMS Package Accession No. ML18269A041).
Proposed Determination | NSHC.
Name of Attorney for Licensee, Mailing Address | Ryan Verhulp, Assistant General Counsel, Energy Northwest, MD 1020, P.O. Box 968, Richland, WA 99352.
NRC Project Manager, Telephone Number | Mahesh Chawla, 301-415-8371.
Indiana Michigan Power Company; Donald C. Cook Nuclear Plant, Units 1 and 2; Berrien County, MI
Docket No(s) | 50-315, 50-316.
Application date | March 23, 2021, as supplemented by letter dated December 16, 2021.
ADAMS Accession Nos | ML21082A496, ML21350A176.
Location in Application of NSHC | Pages 8-10 of Enclosure 2.
Brief Description of Amendment(s) | The proposed amendment would modify Technical Specification (TS) and the TS Bases for TS 3.3.3, “Post Accident Monitoring (PAM) Instrumentation.” The proposed change would allow one channel of TS 3.3.3, “Post Accident Monitoring (PAM) Instrumentation,” Function 7, Containment Water Level, to be satisfied by a train of two operable containment water level switches in the event that both containment water level channels become inoperable. This alternate method of satisfying containment water level channel requirements would be limited to the remaining duration of the operating cycle each time it is invoked. The supplemental letter dated December 16, 2021, provided additional information that expanded the scope of the application as originally noticed; but did not change the NRC staff's original proposed no significant hazards consideration determination as published the Federal Register on May 18, 2021 (86 FR 26950).
Proposed Determination | NSHC.
Name of Attorney for Licensee, Mailing Address | Robert B. Haemer, Senior Nuclear Counsel, Indiana Michigan Power Company, One Cook Place, Bridgman, MI 49106.
NRC Project Manager, Telephone Number | Scott Wall, 301-415-2855.
Tennessee Valley Authority; Sequoyah Nuclear Plant, Unit 1; Hamilton County, TN; Tennessee Valley Authority; Sequoyah Nuclear Plant, Unit 2; Hamilton County, TN
Docket No(s) | 50-327, 50-328.
Application date | February 24, 2022.
ADAMS Accession No | ML22055A625.
Location in Application of NSHC | Pages E21-E23 of the Enclosure.
Brief Description of Amendment(s) | The proposed amendment would incorporate the use of the peer reviewed, plant-specific Sequoyah Nuclear Plant Seismic Probabilistic Risk Assessment and Fire Probabilistic Risk Assessment models into the previously approved 10 CFR 50.69 categorization process.
Proposed Determination | NSHC.
Name of Attorney for Licensee, Mailing Address | David Fountain, Executive VP and General Counsel, Tennessee Valley Authority, 400 West Summit Hill Drive, WT 6A, Knoxville, TN 37902.
NRC Project Manager, Telephone Number | Perry Buckberg, 301-415-1383.
Tennessee Valley Authority; Watts Bar Nuclear Plant, Unit 1; Rhea County, TN
Docket No(s) | 50-390.
Application date | February 17, 2022.
ADAMS Accession No | ML22049A031.
Location in Application of NSHC | Pages E11 and E12 of the Enclosure.
Brief Description of Amendment(s) | The proposed amendment would revise the Watts Bar Nuclear Plant, Unit 1, Technical Specification (TS) 3.3.2, “ESFAS Instrumentation,” Table 3.3.2-1, “Engineered Safety Feature Actuation System Instrumentation,” Function 6.e(1), “Auxiliary Feedwater—Trip of all Main Feedwater Pumps—Turbine Driven Main Feedwater Pumps,” allowable value to be consistent with the value for Watts Bar Nuclear Plant, Unit 2.
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.
Union Electric Company; Callaway Plant, Unit No. 1; Callaway County, MO
Docket No(s) | 50-483.
Application date | February 8, 2022.
ADAMS Accession No | ML22039A317 (Package).
Location in Application of NSHC | Pages 9-11 of Enclosure 1.
Brief Description of Amendment(s) | The proposed amendment would make the following two changes to the Callaway Plant, Unit No. 1 Radiological Emergency Response Plan: (1) Would remove the 15-minute response goal/30-minute activation goal during “Normal Work Hours” and allow the current 75-minute response/90-minute activation goal for “Off-Normal Hours” to be the standard for all hours of the day and (2) would eliminate the 30-minute follow-up notification for the State of Missouri and Emergency Planning Zone (EPZ) counties and implement a 60-minute follow-up notification until the plant conditions are relatively stable such that the follow-up notification frequency may be reduced to an agreed upon frequency, with the consensus of the State Emergency Management Agency and the EPZ counties, when event condition are relatively stable. There is no change proposed to the 15-minute initial notification requirement that applies after declaration of an emergency is being proposed. Additionally, no change to staffing requirements is being proposed.
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Braidwood Station, Units 1 and 2, Will County, IL; Byron Station, Unit Nos. 1 and 2, Ogle County, IL; Constellation Energy Generation, LLC; R. E. Ginna Nuclear Power Plant; Wayne County, New York
Docket No(s) | 50-244, 50-454, 50-455, 50-456, 50-457.
Amendment Date | March 22, 2022.
ADAMS Accession No | ML22026A489.
Amendment No(s) | Braidwood 225 (Unit 1), 225 (Unit 2); Byron 227 (Unit 1), 227 (Unit 2); Ginna 148.
Brief Description of Amendment(s) | The amendments revised the Braidwood, Byron, and Ginna technical specifications to address the issues identified in two Westinghouse Electric Company, LLC documents. The revisions address issues identified in Westinghouse Nuclear Safety Advisory Letter NSAL-09-5, Revision 1, “Relaxed Axial Offset Control FQ Technical Specification Actions,” and NSAL-15-1, Revision 0, “Heat Flux Hot Channel Factor Technical Specification Surveillance.”
Public Comments Received as to Proposed NSHC (Yes/No) | No.
Dominion Energy Nuclear Connecticut, Inc.; Millstone Power Station, Unit No. 3; New London County, CT; Dominion Energy South Carolina, Inc.; Virgil C. Summer Nuclear Station, Unit No. 1, Fairfield County, SC; Virginia Electric and Power Company, Dominion Nuclear Company; North Anna Power Station, Unit Nos. 1 and 2; Louisa County, VA
Docket No(s) | 50-338, 50-339, 50-395, 50-423.
Amendment Date | March 1, 2022.
ADAMS Accession No | ML22041A010.
Amendment No(s) | Millstone—283 (Unit 3); Summer—221 (Unit 1); North Anna—291 (Unit 1) and 274 (Unit 2).
Brief Description of Amendment(s) | The amendment adopts Technical Specification Task Force (TSTF) Traveler TSTF-569, “Revise Response Time Testing Definition.” The amendment revises the technical specification definition for Engineered Safety Feature Response Time and Reactor Trip System Response Time Testing.
Public Comments Received as to Proposed NSHC (Yes/No) | No.
Duke Energy Carolinas, LLC; Catawba Nuclear Station, Units 1 and 2; York County, SC; Duke Energy Carolinas, LLC; McGuire Nuclear Station, Units 1 and 2; Mecklenburg County, NC; Duke Energy Progress, LLC; Shearon Harris Nuclear Power Plant, Unit 1; Wake and Chatham Counties, NC
Docket No(s) | 50-413, 50-414, 50-369, 50-370, 50-400.
Amendment Date | March 4, 2022.
ADAMS Accession No | ML22010A281.
Amendment No(s) | Catawba—311 (Unit 1) and 307 (Unit 2), McGuire—321 (Unit 1) and 300 (Unit 2), Harris 191 (Unit 1).
Brief Description of Amendment(s) | The amendments revised the technical specifications (TSs) in response to the Duke Energy's application dated September 16, 2021. The amendments revised the TSs for each of these facilities based on Technical Specifications Task Force (TSTF) Traveler TSTF-577, Revision 1, “Revised Frequencies for Steam Generator Tube Inspections.”
Public Comments Received as to Proposed NSHC (Yes/No) | No.
Duke Energy Progress, LLC; Shearon Harris Nuclear Power Plant, Unit 1; Wake and Chatham Counties, NC
Docket No(s) | 50-400.
Amendment Date | March 10, 2022.
ADAMS Accession No | ML22020A007.
Amendment No(s) | 192 (Unit 1).
Brief Description of Amendment(s) | The amendment removes, from the renewed facility operating license, License Condition 2.G, “Reporting to the Commission,” which required the licensee to report any violations of Operating License Section 2.C within 24 hours to the NRC Operations Center via the Emergency Notification System with a written follow-up within 30 days. Additionally, the amendment deletes Shearon Harris Nuclear Power Plant Technical Specification (TS) 3/4.4.10, “Structural Integrity,” revises Administrative Control TS 6.1.2 to eliminate the annual management directive requirement, revises TS Table 4.3-2, “Engineered Safety Features Actuation System Instrumentation Surveillance Requirements,” to remove an overly restrictive requirement that impedes the full application of the Surveillance Frequency Control Program for a specific subset of relays, and removes the TS Index and places it under licensee control.
Public Comments Received as to Proposed NSHC (Yes/No) | No.
Entergy Operations, Inc.; Arkansas Nuclear One, Units 1 and 2; Pope County, AR
Docket No(s) | 50-313, 50-368.
Amendment Date | March 15, 2022.
ADAMS Accession No | ML22039A282.
Amendment No(s) | 274 (Unit 1) and 328 (Unit 2).
Brief Description of Amendment(s) | The amendments modified Arkansas Nuclear One (ANO), Unit 1 (ANO-1) Technical Specification (TS) 3.7.8, “Emergency Cooling Pond (ECP),” and ANO, Unit 2 (ANO-2) TS 3.7.4.1, “Emergency Cooling Pond,” to permit the ECP to be considered operable for up to 65 days for each unit in support of a proactive upgrade on the ECP piping supply to the service water system intake bays.
Public Comments Received as to Proposed NSHC (Yes/No) | No.
NextEra Energy Duane Arnold, LLC; Duane Arnold Energy Center; Linn County, IA
Docket No(s) | 50-331.
Amendment Date | February 3, 2022.
ADAMS Accession No | ML22028A282.
Amendment No(s) | 316.
Brief Description of Amendment(s) | The amendment revises the Duane Arnold Physical Security Plan to align the defensive strategy with the post-shutdown and permanently defueled condition present during the current decommissioning activities.
Public Comments Received as to Proposed NSHC (Yes/No) | No.
NextEra Energy Duane Arnold, LLC; Duane Arnold Energy Center; Linn County, IA
Docket No(s) | 50-331.
Amendment Date | March 10, 2022.
ADAMS Accession No | ML22059A746.
Amendment No(s) | 317.
Brief Description of Amendment(s) | The amendment revises the Duane Arnold Physical Security Plan to reflect the requirements associated with the security changes for the independent spent fuel storage installation (ISFSI) only configuration, consistent with the permanent removal of all spent fuel from the DAEC spent fuel pool. This change will be implemented once all fuel is placed in the ISFSI.
Public Comments Received as to Proposed NSHC (Yes/No) | No.
Nine Mile Point Nuclear Station, LLC and Constellation Energy Generation, LLC; Nine Mile Point Nuclear Station, Unit 2; Oswego County, NY
Docket No(s) | 50-410.
Amendment Date | March 4, 2022.
ADAMS Accession No | ML22033A310.
Amendment No(s) | 190.
Brief Description of Amendment(s) | The amendment revised the technical specifications related to reactor pressure vessel water inventory control (RPV WIC) based on Technical Specifications Task Force Traveler (TSTF) 582, Revision 0, “RPV WIC Enhancements,” (TSTF-528) (ADAMS Accession No. ML19240A260), and the associated NRC staff safety evaluation of TSTF 582 (ADAMS Accession No. ML20219A333).
Public Comments Received as to Proposed NSHC (Yes/No) | No.
Pacific Gas and Electric Company; Diablo Canyon Power Plant, Units 1 and 2; San Luis Obispo County, CA
Docket No(s) | 50-275, 50-323.
Amendment Date | March 23, 2022.
ADAMS Accession No | ML22020A315.
Amendment No(s) | 240 (Unit 1) and 241 (Unit 2).
Brief Description of Amendment(s) | The amendments revised Technical Specification 3.8.1, “AC [Alternating Current] Sources—Operating,” to allow a separate one-time Completion Time of 7 days during the planned maintenance for each diesel fuel oil transfer pump (DFOTP) 0-1 and 0-2, with the portable DFOTP staged and available. The one-time Completion Time of 7 days for DFOTP 0-1 and 0-2 supports planned maintenance to maintain high reliability of the DFOTPs.
Public Comments Received as to Proposed NSHC (Yes/No) | No.
PSEG Nuclear LLC; Hope Creek Generating Station; Salem County, NJ
Docket No(s) | 50-354.
Amendment Date | March 14, 2022.
ADAMS Accession No | ML21348A713.
Amendment No(s) | 231.
Brief Description of Amendment(s) | The amendment revised Technical Specification 3/4.7.1.3, “Ultimate Heat Sink” (UHS), to modify the limiting condition for operation river temperature, increase the temperature in the action statement for opening the emergency discharge valves, added a new 72-hour allowed outage time for one station service water system pump or one safety auxiliary cooling system pump or one emergency diesel generator inoperable with UHS temperature above 88 degrees Fahrenheit, and revised the UHS average temperature limit and maximum temperature.
Public Comments Received as to Proposed NSHC (Yes/No) | No.
Southern Nuclear Operating Company, Inc.; Joseph M. Farley Nuclear Plant, Units 1 and 2; Houston County, AL
Docket No(s) | 50-348, 50-364.
Amendment Date | March 7, 2022.
ADAMS Accession No | ML22032A243.
Amendment No(s) | 241 (Unit 1) and 238 (Unit 2).
Brief Description of Amendment(s) | The amendments modify the Updated Final Safety Analysis Report of the Joseph M. Farley Nuclear Plant, Units 1 and 2, by allowing the removal of the encapsulation vessels and associated guard piping around the first isolation valves in the recirculation suction lines for the Containment Spray and Residual Heat Removal/Low Head Safety Injection systems.
Public Comments Received as to Proposed NSHC (Yes/No) | No.
Tennessee Valley Authority; Browns Ferry Nuclear Plant, Units 1, 2, and 3; Limestone County, AL
Docket No(s) | 50-259, 50-260, 50-296.
Amendment Date | March 16, 2022.
ADAMS Accession No | ML22020A228.
Amendment No(s) | 320 (Unit 1), 343 (Unit 2), 303 (Unit 3).
Brief Description of Amendment(s) | The amendments revised Technical Specification (TS) 3.6.2.6 (correlates to boiling water reactor (BWR)/4 TS 3.6.2.5), “Drywell-to-Suppression Chamber Differential Pressure,” and TS 3.6.3.2, “Primary Containment Oxygen Concentration,” based on TS Task Force (TSTF) Traveler TSTF-568-A, Revision 2, “Revise Applicability of BWR/4 TS 3.6.2.5 and TS 3.6.3.2” (ADAMS Accession No. ML19141A122), and the associated NRC safety evaluation for TSTF-568-A (ADAMS Accession No. ML19325C434).
Public Comments Received as to Proposed NSHC (Yes/No) | No.

Dated: April 13, 2022.
For the Nuclear Regulatory Commission.
Caroline L. Carusone,
Deputy Director, Division of Operating Reactor Licensing, Office of Nuclear Reactor Regulation.

[FR Doc. 2022-08287 Filed 4-18-22; 8:45 am]

BILLING CODE 7590-01-P